DEPARTMENT OF JUSTICE

Notice of Lodging of Proposed Consent Judgment Under The Clean Air Act

On September 24, 2020, the Department of Justice lodged a proposed consent judgment with the United States District Court for the Eastern District of New York in the lawsuit entitled United States of America v. Town of Brookhaven, New York, Case No. 2:20-CV-4522.

The United States filed this lawsuit to seek civil penalties and injunctive relief for violations of the Clean Air Act, 42 U.S.C. 7401 et seq. (“CAA”). The alleged violations stem from the Town of Brookhaven's (“Brookhaven”) failure to comply with the CAA's New Source Performance Standards for landfills, the National Emission Standards for Hazardous Air Pollutants for landfills, and provisions of the Town's Title V operating permit.

The Consent Judgment requires Brookhaven to implement injunctive relief that includes: (i) Proper operation of its landfill gas and sulfur dioxide control systems; (ii) installation and operation of a hydrogen sulfide gas monitoring system; (iii) conducting a survey of, and then addressing, high temperatures within the landfill; and (iv) installation and operation of a new taller flare. Further, Brookhaven will install a 350-panel solar energy conversion system. The Consent Judgment also requires Brookhaven to pay a civil penalty of $249,166.

The publication of this notice opens a period for public comment on the proposed Consent Judgment. Comments should be addressed to the Assistant Attorney General, Environment and Natural Resources Division, and should refer to Town of Brookhaven, New York, Civil Action No. 2:20-CV-4522, D.J. Ref. No. 90-5-2-1-09884/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department website: https://www.justice.gov/enrd/consent-decrees. We will provide a paper copy of the Consent Judgment upon written request and payment of reproduction costs. Please mail your request and payment to: Consent Decree Library, U.S. DOJ—ENRD, P.O. Box 7611, Washington, DC 20044-7611.

Please enclose a check or money order for $43.25 (25 cents per page reproduction cost) payable to the United States Treasury.

Henry Friedman,
Assistant Section Chief, Environmental Enforcement Section, Environment and Natural Resources Division.

[FR Doc. 2020-21548 Filed 9-29-20; 8:45 am]

BILLING CODE 4410-15-P